DEPARTMENT OF JUSTICE

Antitrust Division

Notice Pursuant to the National Cooperative Research and Production Act of 1993—National Electronics Manufacturing Initiative, Inc. (“NEMI”)

Notice is hereby given that, on December 30, 2002, pursuant to Section 6(a) of the National Cooperative Research and Production Act of 1993, 15 U.S.C. 4301 et seq. (“the Act”), National Electronics Manufacturing Initiative, Inc. (“NEMI”) has filed written notifications simultaneously with the Attorney General and the Federal Trade Commission disclosing changes in its membership status. The notifications were filed for the purpose of extending the Act's provisions limiting the recovery of antitrust plaintiffs to actual damages under specified circumstances. Specifically, 3SAE Technologies, Inc., Nashville, TN; Aerotech World Trade, Ltd., Westlake Village, CA; Aurora Industries, Inc., Ambler, PA; Centre for Microelectronics Assembly and Packaging (CMAP), Toronto, Ontario, Canada; E2open, Redwood City, CA; FCI Electronics, Inc., Etters, PA; Heraeus, Inc., W. Conshohocken, PA; Jabil Circuit, Inc., St. Petersburg, FL; kSARIA Corporation, Wilmington, MA; LACE Technologies, St. Charles, IL; Nextrom Photonics SA, Gals, Switzerland; Sun Microsystems, Inc., Newark, CA; and Sumitomo Electric Lightwave Corporation, Morganvile, NJ have been added as parties to this venture.

Also, CALNET, Vienna, VA; Cyberoptics Corporation, Minneapolis, MN; and Eastman Kodak Company, Rochester, NY have been dropped as parties to this venture.

No other changes have been made in either the membership or planned activity of the group research project. Membership in this group research project remains open, and NEMI intends to file additional written notification disclosing all changes in membership.

On June 6, 1996, NEMI filed its original notification pursuant to Section 6(a) of the Act. The Department of Justice published a notice in the Federal Register pursuant to section 6(b) of the Act on June 28, 1996 (61 FR 33774).

The last notification was filed with the Department on November 7, 2001. A notice was published in the Federal Register pursuant to section 6(b) of the Act on February 15, 2002 (67 FR 7201).

Constance K. Robinson,
Director of Operations, Antitrust Division.

[FR Doc. 03-1415 Filed 1-22-03; 8:45 am]

BILLING CODE 4410-11-M